DEPARTMENT OF TRANSPORTATION

Federal Aviation Administration

14 CFR Part 39

[Docket No. FAA-2004-19492; Directorate Identifier 2004-NM-200-AD; Amendment 39-13844; AD 2004-22-16]

RIN 2120-AA64

Airworthiness Directives; Gulfstream Model GV and GV-SP Series Airplanes

AGENCY: Federal Aviation Administration (FAA), DOT.

ACTION: Final rule; request for comments.

SUMMARY: The FAA is adopting a new airworthiness directive (AD) for certain Gulfstream Model GV and GV-SP series airplanes. This AD requires a one-time general visual inspection for contact or insufficient clearance between the crew oxygen bottle/supports and any wiring harness, and related investigative and corrective actions if necessary. This AD also requires, for certain airplanes, adjusting the wiring harness to obtain a minimum clearance between the crew oxygen bottle and wiring, and applying Teflon sheeting, as applicable; and for certain other airplanes, reworking certain wiring bundles. This AD is prompted by reports of insufficient clearance between certain wiring harnesses and the crew oxygen bottle on several in-production and in-service airplanes. We are issuing this AD to prevent chafing of the electrical wires of the wiring harness against the crew oxygen bottle, which could result in electrical shorting and possible fire in the underfloor structure of the airplane.

DATES: Effective November 19, 2004.

The incorporation by reference of certain publications listed in the AD is approved by the Director of the Federal Register as of November 19, 2004.

We must receive comments on this AD by January 3, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

Fax: (202) 493-2251.

• Hand Delivery: Room PL-401 on the plaza level of the Nassif Building, 400 Seventh Street SW., Washington, DC, between 9 a.m. and 5 p.m., Monday through Friday, except Federal holidays.

For service information identified in this AD, contact Gulfstream Aerospace Corporation, P.O. Box 2206, Mail Station D-10, Savannah, Georgia 31402-9980. You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street SW., room PL-401, on the plaza level of the Nassif Building, Washington, DC. This docket number is FAA-2004-19492; the directorate identifier for this docket is 2004-NM-200-AD.

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Examining the Dockets

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT:

Technical information: Gerald Avella, Aerospace Engineer, Systems and Equipment Branch, ACE-119A, FAA, Atlanta Aircraft Certification Office, One Crown Center, 1895 Phoenix Boulevard, suite 450, Atlanta, Georgia 30349; telephone (770) 703-6066; fax (770) 703-6097.

Plain language information: Marcia Walters, marcia.walters@faa.gov.

SUPPLEMENTARY INFORMATION: We have received reports indicating that insufficient clearance was found between certain wiring harnesses and the crew oxygen bottle on several in-production and in-service Gulfstream Model GV and GV-SP series airplanes. Interference between the wiring harness and crew oxygen bottle could cause chafing of the electrical wires of the wiring harness and consequent electrical shorting. Electrical shorting, if not prevented, could result in a fire in the underfloor structure of the airplane.

Other Related AD

On August 26, 1998, we issued AD 98-18-15, amendment 39-10731 (63 FR 46870, September 3, 1998), which addresses the same unsafe condition as this AD. AD 98-18-15 is applicable to certain other Gulfstream Model GV series airplanes (serial numbers 501 through 549 inclusive) that are not included in the applicability of this AD. That AD currently requires a one-time inspection to measure the clearance between a certain wiring harness and the crew oxygen bottle; corrective actions, if necessary; and eventual relocation of the crew oxygen bottle and rework of the lines and tubing associated with the crew and passenger oxygen bottles.

Relevant Service Information

We have reviewed the following customer bulletins:

Alert customer bulletin— | Revision level— | Date—
Gulfstream GV Alert Customer Bulletin 21 (for Model GV series airplanes) | Original | September 13, 2004.
Gulfstream G500 Alert Customer Bulletin 1 (for Model GV-SP (G500) series airplanes), including Gulfstream Drawing 1159SB59987 | Original A | September 13, 2004. September 8, 2004.
Gulfstream G550 Alert Customer Bulletin 1 (for Model GV-SP (G550) series airplanes), including Gulfstream Drawing 1159SB59987 | Original A | September 13, 2004. September 8, 2004.

The customer bulletins describe procedures for doing a one-time inspection of the area around the forward end of the crew oxygen bottle, including any supports, for contact or insufficient clearance with any wiring harness, and related investigative and corrective actions if necessary. The related investigative action includes inspecting the wiring for damage if the wiring harness is in contact with the crew oxygen bottle or any supports. The corrective action includes applying Teflon sheeting to the wiring harness if necessary; and contacting the manufacturer if wiring damage is found. Gulfstream GV Alert Customer Bulletin 21 also describes procedures for adjusting the wiring harness to obtain a minimum clearance of 0.250 inch between the crew oxygen bottle and wiring if necessary, and applying Teflon sheeting if necessary. Gulfstream G550 Alert Customer Bulletin 1 and Gulfstream G500 Alert Customer Bulletin 1 also describe procedures for reworking certain wiring bundles. The reworking includes the following actions:

• Adding new harness supports to the existing harness supports at stations 241, 253, and 265;

• For certain airplanes, relocating the completion center wire bundle through the new support, and for certain other airplanes, relocating wire bundle R77 ORG through the new support; and

• Inspecting any remaining harness bundles in the area around the passenger and crew oxygen bottles, and redressing any harness bundles that do not meet the minimum separation requirement of 0.500 inch.

Accomplishing the actions specified in the service information is intended to adequately address the unsafe condition.

FAA's Determination and Requirements of This AD

The unsafe condition described previously is likely to exist or develop on other airplanes of the same type design. Therefore, we are issuing this AD to prevent chafing of the electrical wires of the wiring harness against the crew oxygen bottle, which could result in electrical shorting and possible fire in the underfloor structure of the airplane. This AD requires accomplishing the actions specified in the service information described previously, except as discussed under “Differences Between the AD and Customer Bulletins.”

Differences Between the AD and Customer Bulletins

In this AD, the inspections for clearance and damage to wiring specified in the Gulfstream customer bulletins are referred to as “general visual inspections.” We have included the definition for a general visual inspection in a note in this AD.

Although the customer bulletins specify that operators may contact the manufacturer for disposition of certain repair conditions, this AD would require operators to repair those conditions according to a method approved by the FAA.

Although the customer bulletins referenced in this AD specify to submit certain information to the manufacturer, this AD does not include that requirement.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2004-19492; Directorate Identifier 2004-NM-200-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications with you. You can get more information about plain language at http://www/faa.gov/language and http://www.plainlanguage.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-22-16 Gulfstream Aerospace Corporation: Amendment 39-13844. Docket No. FAA-2004-19492; Directorate Identifier 2004-NM-200-AD.

Effective Date

(a) This AD becomes effective November 19, 2004.

Affected ADs

(b) None.

Applicability

(c) This AD applies to Gulfstream Model GV series airplanes, serial numbers (S/N) 550 through 693 inclusive and 699; and Model GV-SP series airplanes, S/N 5001 through 5051 inclusive; certificated in any category.

Unsafe Condition

(d) This AD was prompted by reports of insufficient clearance between certain wiring harnesses and the crew oxygen bottle on several in-production and in-service airplanes. The FAA is issuing this AD to prevent chafing of the electrical wires of the wiring harness against the crew oxygen bottle, which could result in electrical shorting and possible fire in the underfloor structure of the airplane.

Compliance

(e) You are responsible for having the actions required by this AD performed within the compliance times specified, unless the actions have already been done.

Customer Bulletin References

(f) The term “customer bulletin,” as used in this AD, means the Accomplishment Instructions of the following customer bulletins, as applicable:

(1) Gulfstream GV Alert Customer Bulletin 21, dated September 13, 2004 (for Model GV series airplanes);

(2) Gulfstream G500 Alert Customer Bulletin 1, dated September 13, 2004, including Gulfstream Drawing 1159SB59987, Revision A, dated September 8, 2004 (for Model GV-SP (G500) series airplanes); and

(3) Gulfstream G550 Alert Customer Bulletin 1, dated September 13, 2004, including Gulfstream Drawing 1159SB59987, Revision A, dated September 8, 2004 (for Model GV-SP (G550) series airplanes).

Inspection for Contact and Clearance

(g) For all airplanes: Within 25 flight hours after the effective date of this AD, do a one-time general visual inspection for contact or insufficient clearance between the crew oxygen bottle/supports and any wiring harness, and related investigative and corrective actions if necessary, by doing all of the actions in Part I of the applicable customer bulletin. If any damage is found during the general visual inspection required by this AD, and the customer bulletin specifies contacting Gulfstream for appropriate action: Before further flight, repair the damage according to a method approved by the Manager, Atlanta Aircraft Certification Office (ACO), FAA. For a repair method to be approved by the Manager, Atlanta ACO, as required by this paragraph, the Manager's approval letter must specifically refer to this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Adjustment of Wiring Harness

(h) For Model GV series airplanes: If the clearance between the crew oxygen bottle/supports and any wiring harness is found to be 0.250 inch or more during the inspection required by paragraph (g) of this AD, no further action is required by this AD. If the clearance between the crew oxygen bottle/supports and any wiring harness is found to be less than 0.250 inch during the inspection required by paragraph (g) of this AD, within 150 flight hours after completing paragraph (g) of this AD, adjust the wiring harness to obtain a minimum clearance of 0.250 inch between the crew oxygen bottle and wiring, and apply Teflon sheeting as applicable, in accordance with Part II of the applicable customer bulletin.

Reworking of Wiring Bundle

(i) For Model GV-SP series airplanes: Within 150 flight hours after completing paragraph (g) of this AD, rework the wiring bundle by complying with Drawing 1159SB59987, in accordance with Part II of the applicable customer bulletin.

Reporting Requirement

(j) Although the customer bulletins referenced in this AD specify to submit certain information to the manufacturer, this AD does not include that requirement.

Alternative Methods of Compliance (AMOCs)

(k) The Manager, Atlanta ACO, FAA, has the authority to approve AMOCs for this AD, if requested in accordance with the procedures found in 14 CFR 39.19.

Material Incorporated by Reference

(l) You must use the service information that is specified in Table 1 of this AD to perform the actions that are required by this AD, unless the AD specifies otherwise.

Table 1.—Material Incorporated by Reference
Alert customer bulletin— | Revision level— | Date—
Gulfstream GV Alert Customer Bulletin 21 | Original | September 13, 2004.
Gulfstream G500 Alert Customer Bulletin 1, including Gulfstream Drawing 1159SB59987 | Original A | September 13, 2004. September 8, 2004.
Gulfstream G550 Alert Customer Bulletin 1, including Gulfstream Drawing 1159SB59987 | Original A | September 13, 2004. September 8, 2004.

The Director of the Federal Register approves the incorporation by reference of those documents in accordance with 5 U.S.C. 552(a) and 1 CFR part 51. For copies of the service information, contact Gulfstream Aerospace Corporation, P.O. Box 2206, Mail Station D-10, Savannah, Georgia 31402-9980. You can review copies at the Docket Management Facility, U.S. Department of Transportation, 400 Seventh Street SW., room PL-401, Nassif Building, Washington, DC; or at the National Archives and Records Administration (NARA). For information on the availability of this material at NARA, call (202) 741-6030, or go to http://www.archives.gov/federal_register/code_of_federal_regulations/ibr_locations.html.

Issued in Renton, Washington, on October 25, 2004.
Ali Bahrami,
Manager, Transport Airplane Directorate, Aircraft Certification Service.

[FR Doc. 04-24519 Filed 11-3-04; 8:45 am]

BILLING CODE 4910-13-P